ENVIRONMENTAL PROTECTION AGENCY

[ER-FRL-9031-2]

Environmental Impact Statements; Notice of Availability

Responsible Agency: Office of Federal Activities, General Information (202) 564-7146 or http://www.epa.gov/nepa.

Weekly receipt of Environmental Impact Statements (EISs)

Filed 12/26/2016 Through 12/30/2016

Pursuant to 40 CFR 1506.9.

Notice: Section 309(a) of the Clean Air Act requires that EPA make public its comments on EISs issued by other Federal agencies. EPA's comment letters on EISs are available at: http://www.epa.gov/compliance/nepa/eisdata.html.

EIS No. 20160319, Draft, BLM, CA, Central Coast Field Office Draft Resource Management Plan Amendment for the Oil and Gas Leasing and Development, Comment Period Ends: 02/21/2017, Contact: Melinda Moffitt 916-978-4376

EIS No. 20160320, Final, USFS, OR, Magone Project, Review Period Ends: 02/13/2017, Contact: Sasha Fertig 541-575-3061

EIS No. 20160321, Draft Supplement, FTA, CA, BART Silicon Valley Phase II Extension Project, Comment Period Ends: 02/20/2017, Contact: Mary Nguyen 213-202-3960

EIS No. 20160322, Final, FRA, AZ, Arizona Passenger Rail Corridor: Tucson to Phoenix, Review Period Ends: 03/10/2017, Contact: Andrea Martin 202-493-6201

EIS No. 20160323, Draft, NOAA, WI, Wisconsin—Lake Michigan National Marine Sanctuary, Comment Period Ends: 03/31/2017, Contact: Russ Green 920-459-4425

EIS No. 20160324, Draft, NOAA, MD, Mallows Bay—Potomac River National Marine Sanctuary Designation, Comment Period Ends: 03/31/2017, Contact: Paul Orlando 240-460-1978

EIS No. 20160325, Draft, FERC, VA, Atlantic Coast Pipeline and Supply Header Project, Comment Period Ends: 04/06/2017, Contact: Kevin Bowman 202-502-6287

EIS No. 20160326, Final, FERC, PA, Atlantic Sunrise Project, Review Period Ends: 02/06/2017, Contact: Joanne Wachholder 202-502-8056

EIS No. 20160327, Final Supplement, USN, CA, Land Acquisition and Airspace Establishment to Support Large-Scale Marine Air Ground Task Force Live-Fire Training Marine Corps Combat Center Twentynine Palms, Review Period Ends: 02/06/2017, Contact: Jesse Martinez 619-532-3844

EIS No. 20160328, Draft Supplement, USACE, LA, Mississippi River, Baton Rouge to the Gulf of Mexico Mississippi River-Gulf Outlet, Louisiana, New Industrial Canal Lock and Connecting Channels Project, Comment Period Ends: 02/20/2017, Contact: Mark Lahare 504-862-1344

Dated: January 3, 2017.
Dawn Roberts,
Management Analyst, NEPA Compliance Division, Office of Federal Activities.

[FR Doc. 2017-00055 Filed 1-5-17; 8:45 am]

BILLING CODE 6560-50-P